FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 18, 2018.

A. Federal Reserve Bank of Kansas City (Dennis Denney, Assistant Vice President) 1 Memorial Drive, Kansas City, Missouri 64198-0001:

1. Jennifer T. Ostenson, Longmont, Colorado, Robert C. Hummel II and Patricia Hummel, Leawood, Kansas, and Carole T. Hummel as trustee of the Carole T. Hummel Revocable Trust of Fort Collins, Colorado; to be approved as members of the Hummel family group, and to retain shares of First Southwest Bancorporation, Inc. and thereby retain shares of First Southwest Bank both of Alamosa, Colorado.

Board of Governors of the Federal Reserve System, May 1, 2018.
Yao-Chin Chao,
Assistant Secretary of the Board.

[FR Doc. 2018-09518 Filed 5-3-18; 8:45 am]

BILLING CODE P